FEDERAL COMMUNICATIONS COMMISSION

[FR ID 73457]

Deletion of Item From February 18, 2022 Open Meeting

February 17, 2022.

The following item has been adopted by the Commission and deleted from the list of items scheduled for consideration at the Friday, February 18, 2022, Open Meeting. This item was previously listed in the Commission's Sunshine Notice on Friday, February 11, 2022.

3 | MEDIA | Title: Updating Technical Rules for Radio Broadcasters (MB Docket No. 21-263).
|  | Summary: The Commission will consider a Report and Order to eliminate or amend outmoded or unnecessary broadcast technical rules.

Federal Communications Commission.
Marlene Dortch,
Secretary.

[FR Doc. 2022-04150 Filed 2-25-22; 8:45 am]

BILLING CODE 6712-01-P